DEPARTMENT OF HOUSING AND URBAN DEVELOPMENT

[Docket No. FR-6308-N-01]

Announcement of the Housing Counseling Federal Advisory Committee; Notice of Public Meeting

AGENCY: Office of the Assistant Secretary for Housing—Federal Housing Commissioner, Department of Housing and Urban Development (HUD).

ACTION: Notice of Housing Counseling Federal Advisory Committee public meeting.

SUMMARY: This gives notice of a Housing Counseling Federal Advisory Committee (HCFAC) meeting and sets forth the proposed agenda. The HCFAC meeting will be held on Wednesday, January 19, 2022. The meeting is open to the public and is accessible to individuals with disabilities. This notice is being published less than 15 days prior to the meeting date due to unforeseen administrative delays.

DATES: The virtual meeting will be held on Wednesday, January 19, 2022, starting at 12:30 p.m. Eastern Standard Time (EST) via teleconference.

FOR FURTHER INFORMATION CONTACT: Virginia F. Holman, Housing Program Specialist, Office of Housing Counseling, U.S. Department of Housing and Urban Development, 600 East Broad Street, Richmond VA 23219; telephone number 540-894-7790 (this is not a toll-free number); email virginia.f.holman@hud.gov. Individuals with speech or hearing impairments may access this number through TTY by calling the toll-free Federal Relay Service at (800) 877-8339. Individuals may also email HCFACCommittee@hud.gov.

SUPPLEMENTARY INFORMATION: HUD is convening the virtual meeting of the HCFAC on Wednesday, January 19, 2022, from 12:30 p.m. to 4:00 p.m. EST. The meeting will be held via teleconference. This meeting notice is provided in accordance with the Federal Advisory Committee Act, 5. U.S.C. App. 10(a)(2).

Draft Agenda—Housing Counseling Federal Advisory Committee Meeting—January 19, 2022

I. Welcome

II. Advisory Committee Discussion

III. Public Comment

IV. Next Steps

V. Adjourn

Registration

The public is invited to attend this one-day virtual meeting. Advance registration is required to participate. To register, please send an email requesting registration to HCFACCommittee@ajantaconsulting.com.

After completing the registration process above, individuals will receive details with the meeting link and passcode needed to attend. Individuals with speech or hearing impairments may follow the discussion by first calling the toll-free Federal Relay Service (FRS): (800) 977-8339 and providing the FRS operator with the conference call number that will be provided in the registration confirmation.

Comments

With advance registration, members of the public will have an opportunity to provide oral and written comments relative to agenda topics for the HCFAC's consideration. To provide oral comments, please be sure to indicate your desire to do so in your registration email no later than January 10, 2022. The total amount for such comments will be limited to ensure pertinent HCFAC business is completed. Further, the amount of time allotted to each individual commenter will be limited to two minutes and will be allocated on a first-come first-served basis by HUD. Written comments must be provided no later than January 10, 2022, to HCFACCommittee@hud.gov. Please note, written statements submitted will not be read during the meeting. The HCFAC will not respond to individual written or oral statements; but, it will take all public comments into account in its deliberations.

Meeting Records

Records and documents discussed during the meeting as well as other information about the work of the HCFAC, will be available for public viewing as they become available at: https://www.facadatabase.gov/FACA/apex/FACAPublicCommittee?id=a10t0000001gzvQAAQ. Information on the Committee is also available on hud.gov at https://www.hud.gov/program_offices/housing/sfh/hcc and HUD Exchange at https://www.hudexchange.info/programs/housing-counseling/federal-advisory-committee/.

Janet M. Golrick,
Acting Chief of Staff for the Office of Housing—Federal Housing Administration.

[FR Doc. 2022-00128 Filed 1-7-22; 8:45 am]

BILLING CODE 4210-67-P